AGENCY FOR INTERNATIONAL DEVELOPMENT

Notice of Cancellation of July 9 President's Global Development Council Meeting

AGENCY: United States Agency for International Development.

ACTION: Notice of cancellation of meeting.

SUMMARY: Pursuant to the Federal Advisory Committee Act, notice is hereby given of cancellation of the meeting of the President's Global Development Council (GDC) on Tuesday, July 9, 2013 in the Eisenhower Executive Office Building, South Court Auditorium, Pennsylvania Avenue and 17th Street NW., Washington, DC 20050 which was published in the Federal Register on June 24, 2013, 78 FR 37775.

A new meeting date and time will be forthcoming.

FOR FURTHER INFORMATION CONTACT: Jayne Thomisee, 202-712-5506.

Dated: July 1, 2013.
Jayne Thomisee,
Executive Director & Policy Advisor, U.S. Agency for International Development.

[FR Doc. 2013-16396 Filed 7-8-13; 8:45 am]

BILLING CODE P